DEPARTMENT OF TRANSPORTATION

Federal Aviation Administration

14 CFR Part 73

[Docket No. FAA-2004-19051; Airspace Docket No. 04-AWP-6]

RIN 2120-AA66

Establishment of Restricted Area 2507E; Chocolate Mountains, CA

AGENCY: Federal Aviation Administration (FAA), DOT.

ACTION: Final rule.

SUMMARY: This action establishes Restricted Area 2507E (R-2507E), Chocolate Mountains, CA, as part of a U.S Marine Corps (USMC) training initiative. The USMC requested the establishment of this airspace to support its Close Air Support Mission (CAS) within the Chocolate Mountains Range. The new restricted airspace will be used to conduct realistic aircrew training and to maintain the level of proficiency in modern tactics that is required for combat readiness.

DATES: Effective Dates: 0901 UTC, April 13, 2006.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

History

On October 1, 2004, the FAA published in the Federal Register a notice of proposed rulemaking to establish R-2507E Chocolate Mountains, CA (69 FR 58860). Interested parties were invited to participate in this rulemaking effort by submitting written comments on the proposal. One comment was received in support of the proposal, which also expressed concern about low level flights over the Cabeza Prieta National Wildlife Refuge. It is the policy of the USMC to limit low level flight over National Wildlife Refuges to the maximum extent possible. With the exception of editorial changes, this amendment is the same as that proposed in the notice.

The Rule

This action amends Title 14 Code of Federal Regulations (14 CFR) part 73 by establishing R-2507E, Chocolate Mountains, CA, as part of a USMC training initiative. The USMC requested the establishment of this airspace to support its CAS within the Chocolate Mountains Range. The area, R-2507E, will be contiguous with the existing R-2507S, extending from the surface to flight level (FL) 400 and will encompass a portion of the Abel North MOA. The proposed time of designation will be from 0700 to 2300 hours daily. Since the Chocolate Mountains Range complex is joint-use airspace, the restricted areas will only be scheduled when needed for training, and will be available for transit by non-participating aircraft when not in use.

The FAA has determined that this regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental

Environmental Review Pursuant to Section 102(2) of the National Environmental Policy Act of 1969 (NEPA), the Council on Environmental Quality (CEQ) regulations implementing NEPA (40CFR Parts 1500-1508), and other applicable law. The FAA conducted an independent review of the USMC Yuma Training Range Complex Final Environmental Impact Statement (FEIS) January 1997, the Yuma Training Range Complex, Final Supplemental Environmental Impact Statement (SEIS) September 2001 for the purpose of establishment of R-2507E, and its subsequent charting. The FAA adopted the FEIS, the SEIS, and prepared a Record of Decision (ROD) dated December 2005. The ROD analyzed this modification of Special Use Airspace at the Yuma Training Range Complex. This final rule, which establishes a new restricted area, will not result in significant environmental impacts.

List of Subjects in 14 CFR Part 73

Airspace, Prohibited Areas, Restricted Areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.25 [Amended]

2. § 73.25 is amended as follows:

* * * * *

R-2507E Chocolate Mountains, CA [New]

Boundaries. Beginning at lat. 33°17′06″ N., long. 115°04′35″W., to lat. 33°14′26″ N., long. 114°59′00″W., to lat. 33°14′26″ N., long. 114°56′35″W., to lat. 33°10′21″ N., long. 114°56′26″W., to lat. 33°08′45″ N., long. 114°56′43″W.

Designated altitudes. Surface to FL 400.

Time of designation. 0700-2300 local daily; other times by NOTAM.

Controlling agency. FAA, Los Angeles ARTCC.

Using agency. Commanding Officer, USMC Air Station, Yuma, AZ.

* * * * *

Issued in Washington, DC, on January 6, 2006.
Edith V. Parish,
Manager, Airspace and Rules.

[FR Doc. 06-345 Filed 1-12-06; 8:45 am]

BILLING CODE 4910-13-P